NATIONAL CREDIT UNION ADMINISTRATION

Sunshine Act: Notice of Agency Meeting

TIME AND DATE: 10:00 a.m., Thursday, April 18, 2019.

PLACE: Board Room, 7th Floor, Room 7047, 1775 Duke Street (All visitors must use Diagonal Road Entrance), Alexandria, VA 22314-3428.

STATUS: Open.

MATTERS TO BE CONSIDERED:

1. NCUA Rules and Regulations, Compensation in Connection with Loans to Members.

Recess: 10:15 a.m.

TIME AND DATE: 10:30 a.m., Thursday, April 18, 2019.

PLACE: Board Room, 7th Floor, Room 7047, 1775 Duke Street, Alexandria, VA 22314-3428.

STATUS: Closed.

MATTERS TO BE CONSIDERED:

1. Section 205(d) Request for Consent. Closed pursuant to Exemption (6).

2. Supervisory Action. Closed pursuant to Exemptions (8), (9)(i)(B), and (9)(ii).

CONTACT PERSON FOR MORE INFORMATION: Gerard Poliquin, Secretary of the Board, Telephone: 703-518-6304.

Gerard Poliquin,
Secretary of the Board.

[FR Doc. 2019-07577 Filed 4-11-19; 4:15 pm]

BILLING CODE 7535-01-P